DEPARTMENT OF TRANSPORTATION

Research and Special Programs Administration

[Docket No. RSPA-00-8026 (PDA-26(R))]

Application by Boston & Maine Corporation for a Preemption Determination as to Massachusetts' Definitions of Hazardous Materials

AGENCY: Research and Special Programs Administration (RSPA), DOT.

ACTION: Notice Extending Period for Public Comment.

SUMMARY: RSPA is extending the period for interested parties to submit comments on an application by Boston & Maine Corporation for an administrative determination whether Federal hazardous materials transportation law preempts the Commonwealth of Massachusetts' definitions of “hazardous materials” as applied to hazardous materials transportation.

DATES: Comments received on or before February 2, 2001, and rebuttal comments received on or before March 19, 2001, will be considered before an administrative ruling is issued by RSPA's Associate Administrator for Hazardous Materials Safety. Rebuttal comments may discuss only those issues raised by comments received during the initial comment period and may not discuss new issues.

ADDRESSES: The application and all comments received may be reviewed in the Dockets Office, U.S. Department of Transportation, Room PL-401, 400 Seventh Street, SW., Washington, DC 20590-0001. The application and all comments are also available on-line through the home page of DOT's Docket Management System, at “http://dms.dot.gov.”

Comments must refer to Docket No. RSPA-00-8026 and may be submitted to the docket either in writing or electronically. Send three copies of each written comment to the Dockets Office at the above address. If you wish to receive confirmation of receipt of your written comments, include a self-addressed, stamped postcard. To submit comments electronically, log onto the Docket Management System website at http://dms.dot.gov, and click on “Help & Information” to obtain instructions.

A copy of each comment must also be sent to (1) Robert B. Culliford, Esq., Corporate Counsel, Boston & Maine Corporation, Iron Horse Park, North Billerica, MA 01862, and (2) Ginny Sinkel, Esq., Assistant Attorney General, Commonwealth of Massachusetts, Office of the Attorney General, One Ashburton Place, Boston, Massachusetts 02108-1698. A certification that a copy has been sent to these persons must also be included with the comment. (The following format is suggested: “I certify that copies of this comment have been sent to Mr. Culliford and Ms. Sinkel at the addresses specified in the Federal Register.”)

A list and subject matter index of hazardous materials preemption cases, including all inconsistency rulings and preemption determinations issued, are available through the home page of RSPA's Office of the Chief Counsel, at “http://rspa-atty.dot.gov.” A paper copy of this list and index will be provided at no cost upon request to Ms. Christian, at the address and telephone number set forth in For Further Information Contact below.

FOR FURTHER INFORMATION CONTACT: Karin V. Christian, Office of the Chief Counsel, Research and Special Programs Administration (Tel. No. 202-366-4400), Room 8407, U.S. Department of Transportation, Washington, DC 20590-0001.

SUPPLEMENTARY INFORMATION: On November 16, 2000, RSPA published a notice in the Federal Register inviting interested parties to submit comments on an application by Boston & Maine Corporation for an administrative determination of whether Federal hazardous materials transportation law preempts the Commonwealth of Massachusetts' definitions of “hazardous materials” as applied to hazardous materials transportation. See 65 FR 69365.

On December 12, 2000, the Commonwealth of Massachusetts Department of Fire Services and Department of Environmental Protection (the Commonwealth) sent RSPA a letter requesting a 30-day extension of time to comment on the preemption application. The Commonwealth states that Boston & Maine Corporation has assented to the request for an extension of time. Accordingly, RSPA is extending the comment period to February 2, 2001 and the rebuttal comment period to March 19, 2001.

Issued in Washington, DC on December 14, 2000.
Robert A. McGuire,
Associate Administrator for Hazardous Materials Safety.

[FR Doc. 00-32322 Filed 12-18-00; 8:45 am]

BILLING CODE 4910-60-P